ENVIRONMENTAL PROTECTION AGENCY

[EPA-HQ-OW-2003-0033; FRL—11929-01-OMS]

Agency Information Collection Activities; Submission to the Office of Management and Budget for Review and Approval; Comment Request; Modification of Secondary Treatment Requirements for Discharges Into Marine Waters (Renewal)

AGENCY: Environmental Protection Agency (EPA).

ACTION: Notice.

SUMMARY: The Environmental Protection Agency (EPA) has submitted an information collection request (ICR), Modification of Secondary Treatment Requirements for Discharges into Marine Waters (EPA ICR Number 0138.13, OMB Control Number 2040-0088) to the Office of Management and Budget (OMB) for review and approval in accordance with the Paperwork Reduction Act. This is a proposed extension of the ICR, which is currently approved through April 30, 2024. Public comments were previously requested via the Federal Register on August 4, 2023, during a 60-day comment period. This notice allows for an additional 30 days for public comments.

DATES: Comments may be submitted on or before May 28, 2024.

ADDRESSES: Submit your comments, referencing Docket ID Number EPA-HQ-OW-2003-0033, to EPA online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Virginia Fox-Norse, Oceans, Wetlands and Communities Division, Office of Water, (4504T), Environmental Protection Agency, 1200 Pennsylvania Ave. NW, Washington, DC 20460; telephone number: 202 566-1266; email address: fox-norse.virginia@epa.gov.

SUPPLEMENTARY INFORMATION: This is a proposed extension of the ICR, which is currently approved through April 30, 2024. An agency may not conduct or sponsor and a person is not required to respond to a collection of information unless it displays a currently valid OMB control number.

Public comments were previously requested via the Federal Register on August 4, 2023, during a 60-day comment period (88 FR 51813). This notice allows for an additional 30 days for public comments. Supporting documents, which explain in detail the information that EPA will be collecting, are available in the public docket for this ICR. The docket can be viewed online at www.regulations.gov or in person at EPA Docket Center, EPA West, Room 3334, 1301 Constitution Ave. NW, Washington, DC. The telephone number for the Docket Center is 202-566-1744. For additional information about EPA's public docket, visit http://www.epa.gov/dockets.

Abstract: The Clean Water Act (CWA) section 301(h) allows for a case-by-case review of treatment requirements for publicly owned treatment works (POTW) discharges to marine waters. Eligible POTWs that met the set of environmentally stringent criteria in CWA section 301(h) received a modified National Pollutant Discharge Elimination System permit waiving the secondary treatment requirements for the conventional pollutants-biochemical oxygen demand, suspended solids, and pH. CWA section 301(h) only applies to the 25 POTWs that currently hold CWA 301(h) modified permits. No new applications are accepted. The CWA section 301(h) program involves collecting information from two sources: 1) the POTW, and 2) the state in which the POTW is located. The POTW holding or seeking to renew or revise a CWA section 301(h) modified permit provides application, reapplication, monitoring, and toxic control program information to demonstrate that its discharge meets and continues to meet all the CWA section 301(h) environmental criteria. The state provides state determination and certification information.

Form Numbers: None.

Respondents/affected entities: Municipalities that currently have CWA section 301(h) modifications from secondary treatment, or have applied for a renewal of a CWA section 301(h) modified permit, and the states within which these municipalities are located.

Respondent's obligation to respond: Voluntary, required to obtain or retain a benefit. (40 CFR part 125 subpart G, 40 CFR 124.53 and 124.54).

Estimated number of respondents: 30 (total).

Frequency of response: From once every five years, to varies case-by-case, depending on the category of information.

Total estimated burden: 44,985 hours (per year). Burden is defined at 5 CFR 1320.3(b).

Total estimated cost: $1,418,675 (per year), which includes no annualized capital or operation & maintenance costs.

Changes in the Estimates: There is no increase in hours in the total estimated respondent burden compared with the ICR currently approved by OMB. There is no change in program requirements, nor program status, information needs, and use of technology.

Courtney Kerwin,
Director, Information Engagement Division.

[FR Doc. 2024-08983 Filed 4-25-24; 8:45 am]

BILLING CODE 6560-50-P